DEPARTMENT OF STATE

[Public Notice 8149]

Shipping Coordinating Committee; Notice of Committee Meeting

The Shipping Coordinating Committee (SHC) will conduct an open meeting at 9:30 a.m. on Thursday, February 21, 2013, in Room 2501 of the United States Coast Guard Headquarters Building, 2100 Second Street SW., Washington, DC 20593-0001. The primary purpose of the meeting is to prepare for the fifty-seventh Session of the International Maritime Organization's (IMO) Sub-Committee on Ship Design and Equipment to be held at the IMO Headquarters, United Kingdom, March 18-22, 2013.

The agenda items to be considered include:

—Consideration of IACS unified interpretations;

—Revision of the Standard specification for shipboard incinerators (resolution MEPC.76(40));

—Development of amendments to SOLAS regulation II-1/40.2 concerning general requirements on electrical installations;

—Making the provisions of MSC.1/Circ.1206/Rev.1 mandatory;

—Development of new framework of requirements for life-saving appliances;

—Development of safety objectives and functional requirements of the Guidelines on alternative design and arrangements for SOLAS chapters II-1 and III;

—Development of amendments to the LSA Code for thermal performance of immersion suits;

—Development of amendments to the LSA Code for free-fall lifeboats with float free Capabilities;

—Development of a mandatory Code for ships operating in polar waters;

—Classification of offshore industry vessels and consideration of the need for a Code for offshore construction support vessels;

—Revision of testing requirements for RTDs in resolution MSC.81(70);

—Development of guidelines for wing-in-ground craft;

—Revision of the Recommendation on conditions for the approval of servicing stations for inflatable liferafts (resolution A.761(18));

—Amendments to SOLAS regulation II-1/11 and development of associated guidelines to ensure the adequacy of testing arrangements for watertight compartments;

—Provisions for the reduction of noise from commercial shipping and its adverse impacts on marine life;

—Development of the requirements for onboard lifting appliances and winches;

—Review of general cargo ship safety;

—Development of amendments to SOLAS regulations II-1/29.3.2 and 29.4.2, clarifying the requirements for steering gear trials;

—Work programme

—Any other business

Members of the public may attend this meeting up to the seating capacity of the room. To facilitate the building security process, and to request reasonable accommodation, those who plan to attend should contact the meeting coordinator, Wayne Lundy, by email at wayne.m.lundy@uscg.mil, by phone at (202) 372-1379, by fax at (202) 372-1925, or in writing at Commandant (CG-ENG), U.S. Coast Guard, 2100 2nd Street SW., Stop 7126, Washington, DC 20593-7126 not later than February 14, 2013, 7 days prior to the meeting. Requests made after February 14, 2013 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: January 4, 2013.
Brian Robinson,
Executive Secretary, Shipping Coordinating Committee, Department of State.

[FR Doc. 2013-00444 Filed 1-10-13; 8:45 am]

BILLING CODE P